DEPARTMENT OF AGRICULTURE

National Agricultural Statistics Service

Notice of the Advisory Committee on Agriculture Statistics Meeting

AGENCY: National Agricultural Statistics Service, USDA.

ACTION: Notice of public meeting.

SUMMARY: In accordance with the Federal Advisory Committee Act, the National Agricultural Statistics Service (NASS) announces a meeting of the Advisory Committee on Agriculture Statistics.

FOR FURTHER INFORMATION CONTACT: Hubert Hamer, Executive Director, Advisory Committee on Agriculture Statistics, telephone: 202-720-3896, eFax: 855-593-5473, or email: HOSDOD@nass.usda.gov.

Correction.

In the Federal Register of October 14, 2015 in FR Doc. 2015-26089, on page 61791, in the address section, read as follows:

The Committee meeting will take place at the Brown Hotel, 335 West Broadway, Louisville, Kentucky, 40202. Written comments may be filed before or up to two weeks after the meeting with the contact person identified herein at: U.S. Department of Agriculture, National Agricultural Statistics Service, 1400 Independence Avenue SW., Room 5029, South Building, Washington, DC 20250-2000.

Yvette Anderson,
Federal Register Liaison Officer for ARS, ERS, and NASS.

[FR Doc. 2015-27972 Filed 11-2-15; 8:45 am]

BILLING CODE 3410-20-P